ENVIRONMENTAL PROTECTION AGENCY

[GA-78-200703; FRL-8296-1]

Adequacy Status of the Atlanta Early Progress 8-Hour Ozone Motor Vehicle Emission Budgets for Transportation Conformity Purposes

AGENCY: Environmental Protection Agency (EPA).

ACTION: Notice of adequacy.

SUMMARY: In this notice, EPA is notifying the public that we have found that the Motor Vehicle Emissions Budgets (MVEBs) in the Atlanta Early Progress State Implementation Plan (SIP), submitted on January 16, 2007, by the Georgia Environmental Protection Division (GA EPD) of the Georgia Department of Natural Resources, are adequate for transportation conformity purposes. As a result of EPA's finding, the Atlanta area must use the MVEBs from the January 16, 2007, Atlanta Early Progress SIP for future conformity determinations for the 8-hour ozone standard.

DATES: These MVEBs are effective April 24, 2007.

FOR FURTHER INFORMATION CONTACT: Lynorae Benjamin, Environmental Engineer, U.S. Environmental Protection Agency, Region 4, Air Planning Branch, Air Quality Modeling and Transportation Section, 61 Forsyth Street, SW., Atlanta, Georgia 30303. Ms. Benjamin can also be reached by telephone at (404) 562-9040, or via electronic mail at benjamin.lynorae@epa.gov. The finding is available at EPA's conformity Web site: http://www.epa.gov/otaq/stateresources/transconf/currsips.htm.

SUPPLEMENTARY INFORMATION:

Background

Today's notice is simply an announcement of a finding that EPA has already made. EPA Region 4 sent a letter to GA EPD on January 24, 2007, stating that the MVEBs in the Atlanta Early Progress SIP, submitted on January 16, 2007, are adequate. The Atlanta 8-hour ozone nonattainment area is comprised of the following twenty counties: Barrow, Bartow, Carroll, Cherokee, Clayton, Cobb, Coweta, DeKalb, Douglas, Fayette, Forsyth, Fulton, Gwinnett, Hall, Henry, Newton, Paulding, Rockdale, Spalding and Walton. EPA's adequacy comment period ran from October 30, 2006, through November 29, 2006. During EPA's adequacy comment period no adverse comments were received. This finding has also been announced on EPA's conformity Web site: http://www.epa.gov/otaq/stateresources/transconf/pastsips.htm. The adequate MVEBs are provided in the following table:

Atlanta 8-Hour Ozone MVEBs
[Tons per day]
| 2006
VOC | 306.75
NOX | 172.27

Transportation conformity is required by section 176(c) of the Clean Air Act, as amended in 1990. EPA's conformity rule requires that transportation plans, programs and projects conform to state air quality implementation plans and establishes the criteria and procedures for determining whether or not they do. Conformity to a SIP means that transportation activities will not produce new air quality violations, worsen existing violations, or delay timely attainment of the national ambient air quality standards.

The criteria by which EPA determines whether a SIP's MVEBs are adequate for transportation conformity purposes are outlined in 40 Code of Federal Regulations 93.118(e)(4). We have described the process for determining the adequacy of submitted SIP budgets in our July 1, 2004, final rulemaking entitled, “ Transportation Conformity Rule Amendments for the New 8-hour Ozone and PM2.5 National Ambient Air Quality Standards and Miscellaneous Revisions for Existing Areas; Transportation Conformity Rule Amendments: Response to Court Decision and Additional Rule Changes” (69 FR 40004). Please note that an adequacy review is separate from EPA's completeness review, and it also should not be used to prejudge EPA's ultimate approval of the SIP. Even if EPA finds the MVEBs adequate, the Agency may later determine that the SIP itself is not approvable.

On December 22, 2006, the U.S. Court of Appeals for the District of Columbia Circuit issued a decision on EPA's Phase I rule implementing the 1997 8-hour ozone National Ambient Air Quality Standard (NAAQS) (D.C. Cir. No. 04-1200). EPA is currently analyzing the decision in detail. EPA's adequacy finding on the MVEBs in the Early Progress SIP for the Atlanta 8-hour nonattainment area is not affected by the court's decision and does not address any other requirements that may be affected by the decision. EPA's adequacy finding determines only that the budgets are adequate for the specific purpose submitted, and provides no conclusions on what requirements may ultimately apply in the area as a result of the court decision.

Authority: 42 U.S.C. 7401 et seq.

Dated: March 29, 2007.
J.I. Palmer, Jr.,
Regional Administrator, Region 4.

[FR Doc. E7-6620 Filed 4-6-07; 8:45 am]

BILLING CODE 6560-50-P